DEPARTMENT OF TRANSPORTATION

National Highway Traffic Safety Administration

[Docket No. NHTSA-2014-0035; Notice 2]

McLaren Automotive, Inc. (McLaren), Grant of Petition for Decision of Inconsequential Noncompliance

AGENCY: National Highway Traffic Safety Administration (NHTSA), Department of Transportation (DOT).

ACTION: Grant of petition.

SUMMARY: McLaren has determined that certain model year (MY) 2012-2015 MP4 12-C Spider and Coupe passenger cars do not fully comply with paragraph S4.4(c)(2), of Federal Motor Vehicle Safety Standard (FMVSS) No. 138, Tire Pressure Monitoring Systems. McLaren filed a report dated February 18, 2014, pursuant to 49 CFR part 573, Defect and Noncompliance Responsibility and Reports. McLaren then petitioned NHTSA under 49 CFR part 556 requesting a decision that the subject noncompliance is inconsequential to motor vehicle safety.

ADDRESSES: For further information on this decision contact Kerrin Bressant, Office of Vehicles Safety Compliance, the National Highway Traffic Safety Administration (NHTSA), telephone (202) 366-1110, facsimile (202) 366-3081.

SUPPLEMENTARY INFORMATION:

I. Overview: Pursuant to 49 U.S.C. 30118(d) and 30120(h) and the rule implementing those provisions at 49 CFR part 556, McLaren submitted a petition for an exemption from the notification and remedy requirements of 49 U.S.C. Chapter 301 on the basis that this noncompliance is inconsequential to motor vehicle safety.

This notice of receipt of McLaren's petition is published under 49 U.S.C. 30118 and 30120 and does not represent any agency decision or other exercise of judgment concerning the merits of the petition.

II. Vehicles Involved: Affected are approximately 1,366 MY 2012-2015 MP4 12-C Spider and Coupe model passenger cars manufactured from October 10, 2011 through February 18, 2014.

III. Noncompliance: McLaren explains that during testing of the tire pressure monitoring system (TPMS) it was noted that the malfunction indicator telltale illuminated as required by FMVSS No. 138 when a malfunction is first detected with the exception of one scenario. If the malfunction is caused by an incompatible wheel sensor, when the vehicle ignition is deactivated and then reactivated to the “On” (“Run”) position after a five minute period, there is no immediate re-illumination of the malfunction indicator telltale as required if the malfunction still exists. Although the malfunction indicator telltale does not re-illuminate immediately after the vehicle ignition is reactivated, it does illuminate within 40 seconds after the vehicle accelerates to, or above, 23 miles per hour (mph).

IV. Rule Text: Paragraph S4.4(c)(2) of FMVSS No. 138 requires in pertinent part:

S4.4 TPMS Malfunction.

. . .

(c) Combination low tire pressure/TPMS malfunction telltale. The vehicle meets the requirements of S4.4(a) when equipped with a combined Low Tire Pressure/TPMS malfunction telltale that:

(2) Flashes for a period of at least 60 seconds but no longer than 90 seconds upon detection of any condition specified in S4.4(a) after the ignition locking system is activated to the “On” (“Run”) position. After each period of prescribed flashing, the telltale must remain continuously illuminated as long as a malfunction exists and the ignition locking system is in the “On” (“Run”) position. This flashing and illumination sequence must be repeated each time the ignition locking system is placed in the “On” (“Run”) position until the situation causing the malfunction has been corrected. . . .

V. Summary of McLaren's Analyses: McLaren stated its belief that the subject noncompliance is inconsequential to motor vehicle safety for the following reasons:

(A) McLaren stated that although the TPMS malfunction indicator telltale will not illuminate immediately after the vehicle is restarted, it generally will illuminate shortly thereafter and in any event it will illuminate in no more than 40 seconds after the vehicle accelerates at or above 23 mph. McLaren submits that this brief pause before the malfunction indicator illuminates is inconsequential to motor vehicle safety.

(B) McLaren explained that if the TPMS fails to detect a signal from a compatible sensor, the TPMS indicator on the instrument cluster will display no value for the tire pressure at the affected wheel(s). A display of no value will therefore also alert the driver to the fact that something is not functioning properly.

(C) McLaren further states that with the exception of the subject noncompliance, all other aspects of the Malfunction Indicator and the TPMS in general are compliant with FMVSS No. 138.

(D) McLaren noted that it is not aware of any customer complaints related to this condition.

(E) McLaren has additionally informed NHTSA that it has corrected this noncompliance in all vehicles manufactured after February 18, 2014.

In summation, McLaren believes that the described noncompliance of the subject vehicles is inconsequential to motor vehicle safety, and that its petition, to exempt McLaren from providing recall notification of noncompliance as required by 49 U.S.C. 30118 and remedying the recall noncompliance as required by 49 U.S.C. 30120 should be granted.

NHTSA Decision

NHTSA Analysis: McLaren explained that although the malfunction indicator telltale does not re-illuminate immediately after the vehicle is restarted, it will illuminate shortly thereafter—within 40 seconds after the vehicle speed exceeds 23 mph, and will remain illuminated for the rest of the ignition cycle.

NHTSA agrees with McLaren that the malfunction indicator telltale will not illuminate as required only during very short periods of time when the vehicle is traveling at low speeds and thus poses little risk to motor vehicle safety. Under normal driving conditions, a driver will begin a trip by accelerating moderately beyond 23 mph, and as explained by McLaren, once the vehicle accelerates to or above 23 mph, the malfunction indicator telltale re-illuminates and then remains illuminated for the entire ignition cycle, regardless of vehicle speed. The telltale fails to re-illuminate only in the very rare case when the driver begins a trip and never exceeds 23 mph (the threshold speed necessary to re-activate the malfunction indicator telltale). No real safety risk exists because at such low speeds there is little risk of the driver losing control of the vehicle due to underinflated tires. Furthermore, the possibility that the vehicle will experience both a low inflation pressure condition and a malfunction simultaneously is highly unlikely.

McLaren stated that if the TPMS fails to detect a compatible wheel sensor, the TPMS indicator on the instrument cluster will display no value for the tire pressure at the affected wheel(s). McLaren explained that this information will help to alert the driver that some kind of system malfunction is occurring.

The agency evaluated the displays McLaren uses in the noncompliant vehicles. In addition to the combination telltale indicator lamp, the subject vehicles are equipped with a “plan view” icon which displays the pressures for all four wheels individually. If any wheel has a malfunctioning pressure sensor the indicator for that wheel displays several dashes “---” indicating the there is a problem with that respective wheel. The additional information is not required by the safety standard, but can be used as an aid to the driver to determine the status of a vehicle's tires.

McLaren discussed that with the exception of the subject noncompliance, all other aspects of the TPMS functionality are compliant with the FMVSS 138 requirements. The primary functions of the TPMS, the identification of all other required malfunctions as well as the identification of low tire inflation pressure scenarios, is not affected.

The agency agrees with McLaren's reasoning with regards to the subject noncompliance involving only one aspect of the system's malfunction functionality. The primary function of the TPMS is to identify low inflation pressure conditions which McLaren's system appears to do as required by FMVSS No. 138. Also, there are a variety of other malfunctions that can occur in addition to the incompatible tire malfunction identified in this petition. We understand from McLaren that its TPMS will perform as required during all other system malfunctions.

McLaren also mentioned that they have not received or are aware of any consumer complaints, field communications, incidences or injuries related to this noncompliance. In addition to the analysis done by McLaren that looked at customer complaints, field communications, incidents or injuries related to this condition, the agency conducted additional checks of its Office of Defects Investigations consumer complaint database and found no related complaints.

McLaren stated that they have corrected the noncompliance in all unsold vehicles manufactured after February 18, 2014, as required by NHTSA.

NHTSA'S Decision: In consideration of the foregoing, NHTSA finds that Mclaren has met its burden of persuasion that the subject FMVSS No. 138 noncompliance in the affected vehicles is inconsequential to motor vehicle safety. Accordingly, McLaren's petition is hereby granted and McLaren is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant vehicles that McLaren no longer controlled at the time it determined that the noncompliance existed. However, the granting of this petition does not relieve vehicle distributors and dealers of the prohibitions on the sale, offer for sale, or introduction or delivery for introduction into interstate commerce of the noncompliant vehicles under their control after McLaren notified them that the subject noncompliance existed.

Authority: 49 U.S.C. 30118, 30120: Delegations of authority at 49 CFR 1.95 and 501.8.

Jeffrey M. Giuseppe,
Director, Office of Vehicle Safety Compliance.

[FR Doc. 2016-02414 Filed 2-8-16; 8:45 am]

BILLING CODE 4910-59-P